DEPARTMENT OF COMMERCE

National Oceanic and Atmospheric Administration

[RTID 0648-XE691]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its Joint Skate and Monkfish Committees to consider actions affecting New England fisheries in the exclusive economic zone (EEZ). Recommendations from this group will be brought to the full Council for formal consideration and action, if appropriate.

DATES: This meeting will be held on Thursday, March 20, 2025 at 9 a.m.

ADDRESSES: Meeting address: This meeting will take place at Hampton Inn, 20 Hotel Drive, South Kingstown, RI 02879; telephone: (401) 788-3500.

Webinar registration URL information: https://nefmc-org.zoom.us/meeting/register/UIhZi_rqTEyS9ePBCCBueA.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Joint Skate and Monkfish Committees will meet to discuss Overview of 2025 Council work priorities for the Skate and Monkfish Fishery Management Plans. They will review research updates on skate and monkfish. The committees will also discuss the plans for the 2025 Monkfish and Skate Management Track Assessments. Also, on the agenda is the development of separate specifications actions for the Monkfish and Skate Fishery Management Plans (a) Fishing years 2026-2028 monkfish specifications; initiate Framework Adjustment 17, (b) Fishing years 2026-2027 skate specifications, (c) Range of potential measures (monkfish and skate possession limits, Monkfish Days-At-Sea). They will also review plans for the Joint Monkfish-Skate Plan Development Teams to develop joint analyses on monkfish and skate fisheries overlap. Other business will be discussed if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: February 28, 2025.
Diane M. DeJames-Daly,
Acting Deputy Director, Office of Sustainable Fisheries, National Marine Fisheries Service.

[FR Doc. 2025-03553 Filed 3-4-25; 8:45 am]

BILLING CODE 3510-22-P